DEPARTMENT OF TRANSPORTATION

Federal Aviation Administration

14 CFR Part 39

[Docket No. FAA-2017-0650; Product Identifier 2017-NE-19-AD]

RIN 2120-AA64

Airworthiness Directives; Rolls-Royce plc Turbofan Engines

AGENCY: Federal Aviation Administration (FAA), DOT.

ACTION: Notice of proposed rulemaking (NPRM).

SUMMARY: We propose to adopt a new airworthiness directive (AD) for certain Rolls-Royce plc (RR) RB211-Trent 875-17, RB211-Trent 877-17, RB211-Trent 884-17, RB211-Trent 884B-17, RB211-Trent 892-17, RB211-Trent 892B-17, and RB211-Trent 895-17 turbofan engines. This proposed AD was prompted by low-pressure compressor (LPC) case A-frame hollow locating pins that may have reduced integrity due to incorrect heat treatment. This proposed AD would require replacement of the LPC case A-frame hollow locating pins. We are proposing this AD to correct the unsafe condition on these products.

DATES: We must receive comments on this NPRM by October 30, 2017.

ADDRESSES: You may send comments by any of the following methods:

• Federal eRulemaking Portal: Go to http://www.regulations.gov. Follow the instructions for submitting comments.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Rolls-Royce plc, Corporate Communications, P.O. Box 31, Derby, England, DE24 8BJ; phone: 011-44-1332-242424; fax: 011-44-1332-249936; email: http://www.rolls-royce.com/contact/civil_team.jsp; Internet: https://customers.rolls-royce.com/public/rollsroycecare. You may view this service information at the FAA, Engine and Propeller Standards Branch, 1200 District Avenue, Burlington, MA. For information on the availability of this material at the FAA, call 781-238-7125.

Examining the AD Docket

You may examine the AD docket on the Internet at http://www.regulations.gov by searching for and locating Docket No. FAA-2017-0650; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Robert Green, Aerospace Engineer, ECO Branch, FAA, 1200 District Avenue, Burlington, MA 01803; phone: 781-238-7754; fax: 781-238-7199; email: robert.green@faa.gov.

SUPPLEMENTARY INFORMATION:

Comments Invited

We invite you to send any written relevant data, views, or arguments about this proposed AD. Send your comments to an address listed under the ADDRESSES section. Include “Docket No. FAA-2017-0650; Product Identifier 2017-NE-19-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2017-0096, dated June 1, 2017 (referred to hereinafter as “the MCAI”), to correct an unsafe condition for the specified products. The MCAI states:

All low pressure compressor (LPC) case A-frame hollow locating pins, Part Number (P/N) FK11612, manufactured between 01 January 2012 and 31 May 2016, have potentially been subjected to incorrect heat treatment. This may have reduced the integrity of the pin such that in a Fan Blade Off (FBO) event it is unable to withstand the applied loads. This condition, if not corrected, could lead to loss of location of the A-frame following an FBO event, possibly resulting in engine separation, loss of thrust reverser unit, release of high-energy debris, or an uncontrolled fire. To address this potential unsafe condition, RR identified the affected engines that have these A-frame hollow locating pins installed and published Alert Non-Modification Service Bulletin (NMSB) RB.211-72-AJ463, providing instructions for replacement of these pins. The NMSB was recently revised to correct an error in Section 1.A., where ESN 51477 was inadvertently omitted. That ESN was correctly listed in Section 1.D.(1)(f) for the compliance time. For the reason described above, this AD requires a one-time replacement of the affected A-frame hollow locating pins P/N FK11612. This AD also prohibits installation of pins that were released to service before 05 July 2016.

You may obtain further information by examining the MCAI in the AD docket on the Internet at http://www.regulations.gov by searching for and locating Docket No. FAA-2017-0650.

Related Service Information Under 1 CFR Part 51

RR has issued Alert Non Modification Service Bulletin (NMSB) RB.211-72-AJ463, Revision 2, dated June 28, 2017. The Alert SB describes procedures for replacement of all non-conforming A-frame locating pins. This service information is reasonably available because the interested parties have access to it through their normal course of business or by the means identified in the ADDRESSES section.

FAA's Determination and Requirements of This Proposed AD

This product has been approved by the aviation authority of the United Kingdom, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require replacement of all non-conforming A-frame locating pins.

Costs of Compliance

We estimate that this proposed AD affects 95 engines installed on airplanes of U.S. registry.

We estimate the following costs to comply with this proposed AD:

Estimated Costs
Action | Labor cost | Parts cost | Cost per product | Cost on U.S. operators
A-frame pin replacement | 9.5 work-hours × $85 per hour = $807.50 | $453.00 | $1,260.50 | $119,747.50

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Rolls-Royce plc: Docket No. FAA-2017-0650; Product Identifier 2017-NE-19-AD.

(a) Comments Due Date

We must receive comments by October 30, 2017.

(b) Affected ADs

None.

(c) Applicability

This AD applies to certain Rolls-Royce plc (RR) RB211-Trent 875-17, 877-17, 884-17, 884B-17, 892-17, 892B-17 and 895-17 engines with an engine serial number (ESN) listed in Section 1.A., Effectivity, of RR Alert NMSB RB.211-72-AJ463, Revision 2, dated June 28, 2017.

(d) Subject

Joint Aircraft System Component (JASC) Code 7230, Turbine Engine Compressor Section.

(e) Reason

This AD was prompted by low-pressure compressor (LPC) case A-frame hollow locating pins that may have reduced integrity due to incorrect heat treatment. We are issuing this AD to prevent failure of the locating pins, engine separation and loss of the airplane.

(f) Compliance

Comply with this AD within the compliance times specified, unless already done.

(g) Required Actions

(1) At the next scheduled on-wing maintenance opportunity after the effective date of this AD, replace each affected LPC case A-frame hollow locating pin using Section 3, Accomplishment Instructions, of RR Alert NMSB RB.211-72-AJ463, Revision 2, dated June 28, 2017, within the compliance times listed in Section 1.D.(1), Planning Information, except for those listed in Sections 1.D.(1)(a) and (b) that have a compliance requirement of November 13, 2017.

(2) After the effective date of this AD, unless already accomplished by paragraph (g)(1) of this AD, at the next engine shop visit, replace each affected LPC case A-frame hollow locating pin, part number (P/N) FK11612, with a part eligible for installation, using Section 3, Accomplishment Instructions, of RR Alert NMSB RB.211-72-AJ463, Revision 2, dated June 28, 2017.

(h) Installation Prohibition

After the effective date of this AD, do not install any engine with an affected LPC case A-frame hollow locating pin, P/N FK11612, unless the pin is eligible for installation.

(i) Definitions

For the purposes of this AD:

(1) An affected part is an LPC case A-frame hollow locating pin, P/N FK11612, except those with an original RR authorized release certificate dated July 5, 2016, or later.

(2) A part eligible for installation is an LPC case A-frame hollow locating pin, P/N FK11612, with an original RR authorized release certificate dated July 5, 2016, or later.

(3) An engine shop visit is when the engine is subject to a serviceability check and repair, rebuild, or overhaul.

(j) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the ECO Branch, send it to the attention of the person identified in paragraph (k)(1) of this AD. You may email your request to: ANE-AD-AMOC@faa.gov.

(2) Before using any approved AMOC, notify your appropriate principal inspector, or lacking a principal inspector, the manager of the local flight standards district office/certificate holding district office.

(k) Related Information

(1) For more information about this AD, contact Robert Green, Aerospace Engineer, ECO Branch, FAA, 1200 District Avenue, Burlington, MA 01803; phone: 781-238-7754; fax: 781-238-7199; email: robert.green@faa.gov.

(2) Refer to MCAI European Aviation Safety Agency AD 2017-0096, dated June 1, 2017, for more information. You may examine the MCAI in the AD docket on the Internet at http://www.regulations.gov by searching for and locating it in Docket No. FAA-2017-0650.

(3) Rolls-Royce plc Alert Non Modification Service Bulletin RB.211-72-AJ463, Revision 2, dated June 28, 2017, can be obtained from RR plc, using the contact information in paragraph (k)(4) of this proposed AD.

(4) For service information identified in this proposed AD, contact Rolls-Royce plc, Corporate Communications, P.O. Box 31, Derby, England, DE24 8BJ; phone: 011-44-1332-242424; fax: 011-44-1332-249936; email: http://www.rolls-royce.com/contact/civil_team.jsp; Internet: https://customers.rolls-royce.com/public/rollsroycecare.

(5) You may view this service information at the FAA, Engine & Propeller Standards Branch, Policy and Innovation Division, 1200 District Avenue, Burlington, MA. For information on the availability of this material at the FAA, call 781-238-7125.

Issued in Burlington, Massachusetts, on September 22, 2017.
Robert J. Ganley,
Manager, Engine and Propeller Standards Branch, Aircraft Certification Service.

[FR Doc. 2017-20718 Filed 9-27-17; 8:45 am]

BILLING CODE 4910-13-P